POSTAL REGULATORY COMMISSION

Sunshine Act Meetings

Federal Register Citation of Previous Announcement: 74 FR 45487 (September 2, 2009).

Previously Announced Time and Date of Meeting: 3 p.m., Monday, September 14, 2009.

Changes in the Meeting: The matters to be considered included two items: consideration and adoption of FY 2011 budget and election of vice chairman. The revised agenda consists of one item: Consideration and adoption of FY 2011 budget.

Contact Person for More Information: Stephen L. Sharfman, General Counsel, 202-789-6824 or stephen.sharfman@prc.gov.

Shoshana M. Grove,
Secretary.

[FR Doc. E9-22437 Filed 9-14-09; 4:15 pm]

BILLING CODE 7710-FW-P